DEPARTMENT OF HOMELAND SECURITY

Coast Guard

33 CFR Part 165

[Docket No. USCG-2025-1100]

Safety Zones; Annual Events in the Captain of the Port Eastern Great Lakes Zone

AGENCY: Coast Guard, DHS.

ACTION: Notification of enforcement of regulation.

SUMMARY: The Coast Guard will enforce the safety zone for the City of North Tonawanda NYE Fireworks held on December 31, 2025, on the Erie Canal, North Tonawanda, NY. This action is necessary and intended to protect the safety of life and property on navigable waters prior to, during, and immediately after the event. During the enforcement period, no person or vessel may enter the safety zone without the permission of the Captain of the Port (COTP) Eastern Great Lakes or their designated representative.

DATES: The regulations in Table 1 to 33 CFR 165.939, for event (L)(1), will be enforced from December 31, 2025, at 11:45 p.m. through January 1, 2026, at 12:30 a.m.

FOR FURTHER INFORMATION CONTACT: If you have questions about this notification of enforcement, contact Ensign Sarah Eacho, Chief of Waterways Management, Sector Eastern Great Lakes, U.S. Coast Guard; telephone 716-253-7299, email D09-SMB-SECBuffalo-WWM@uscg.mil.

SUPPLEMENTARY INFORMATION: The Coast Guard will enforce the safety zone for event (L)(1) in Table 1 to 33 CFR 165.939 for the City of North Tonawanda NYE Fireworks from 11:45 p.m. on December 31, 2025, through 12:30 a.m. on January 1, 2026. The regulation specifies the location of the regulated area for this event. Pursuant to 33 CFR 165.939(a), entry into, transiting, or anchoring within the safety zone during an enforcement period is prohibited unless authorized by the COTP Eastern Great Lakes or their designated on-scene representative. Those seeking permission to enter the safety zone may request permission from the COTP Eastern Great Lakes via channel 16, VHF-FM or by contacting the Sector Eastern Great Lakes Command Center via (888) 230-4703. Vessels and persons granted permission to enter the safety zone shall obey the directions of the COTP Eastern Great Lakes or their designated representative. While within a safety zone, all vessels shall operate at the minimum speed necessary to maintain a safe course.

In addition to this notification of enforcement in the Federal Register, the Coast Guard will provide the maritime community with advance notification of the enforcement periods via Broadcast Notice to Mariners or other suitable means. If the COTP Eastern Great Lakes determines that the safety zone need not be enforced for the full duration stated in this notice, they may use a Broadcast Notice to Mariners to grant general permission to enter the safety zone.

Dated: December 11, 2025.
Adam T. Mosley,
Commander, U.S. Coast Guard, Acting Captain of the Port, Eastern Great Lakes.

[FR Doc. 2025-22968 Filed 12-15-25; 8:45 am]

BILLING CODE 9110-04-P